DEPARTMENT OF THE INTERIOR

Bureau of Land Management

[WY-100-05-1310-DB]

Notice of Meetings of the Pinedale Anticline Working Group

AGENCY: Bureau of Land Management, Interior.

ACTION: Notice of public meeting.

SUMMARY: In accordance with the Federal Land Policy and Management Act (1976) and the Federal Advisory Committee Act (1972), the U.S. Department of the Interior, Bureau of Land Management (BLM) Pinedale Anticline Working Group (PAWG) will meet in Pinedale, Wyoming, for a business meeting. Group meetings are open to the public.

DATES: The PAWG will meet November 6, 2006 from 1 to 5 p.m.

ADDRESSES: The meeting of the PAWG will be held in the Lovatt room of the Pinedale Library, 155 S. Tyler Ave., Pinedale, WY.

FOR FURTHER INFORMATION CONTACT: Matt Anderson, BLM/PAWG Liaison, Bureau of Land Management, Pinedale Field Office, 432 E. Mills St., PO Box 738, Pinedale, WY 82941; 307-367-5328.

SUPPLEMENTARY INFORMATION: The Pinedale Anticline Working Group (PAWG) was authorized and established with release of the Record of Decision (ROD) for the Pinedale Anticline Oil and Gas Exploration and Development Project on July 27, 2000.

The PAWG makes recommendations to the BLM on mitigation and monitoring decisions within the Pinedale Anticline Project Area.

The agenda for these meetings will include discussions concerning any modifications task groups may wish to make to their monitoring recommendations, a discussion on monitoring funding sources, and overall adaptive management implementation as it applies to the PAWG.

Dated: October 18, 2006.
Dennis Stenger,
Field Office Manager.

[FR Doc. E6-17999 Filed 10-25-06; 8:45 am]

BILLING CODE 4310-22-P